DEPARTMENT OF ENERGY

Federal Energy Regulatory Commission

[Docket No. EC02-6-000, et al.]

TXU Electric Company, et al.; Electric Rate and Corporate Regulation Filings

October 18, 2001.

Take notice that the following filings have been made with the Commission:

1. TXU Electric Company, TXU SESCO Company, and TXU Energy Trading Company

[Docket No. EC02-6-000]

Take notice that on October 15, 2001, TXU Electric Company, TXU SESCO Company, and TXU Energy Trading Company (the Applicants) filed with the Federal Energy Regulatory Commission (Commission) an application pursuant to section 203 of the Federal Power Act for authorization of a disposition of jurisdictional facilities whereby the Applicants propose to internally reorganize in order to comply with the unbundling mandates of the Texas Utilities Code. As a result of the internal corporate reorganization, the Applicants' jurisdictional assets will be transferred to other wholly-owned subsidiaries of the TXU Corp. holding company.

Comment date: November 5, 2001, in accordance with Standard Paragraph E at the end of this notice.

2. ISO New England Inc.

[Docket No. OA97-237-000]

Take notice that on October 11, 2001, ISO New England Inc. filed its “Quarterly Report for Regulators,” as required by New England Power Pool Market Rules and Procedures 17, for the fourth quarter. A privileged version, and a redacted public version were filed, together with a request for privileged treatment under 18 CFR 388.112.

Comment date: November 19, 2001, in accordance with Standard Paragraph E at the end of this notice.

3. Florida Power & Light Company.

[Docket Nos. OA96-39-006, ER93-465-030, ER93-922-016, EL94-12-011 and ER96-2381-004]

Take notice that on October 15, 2001, Florida Power & Light Company (FPL) filed with the Federal Energy Regulatory Commission (Commission) revised sheets to Schedules 3 through 6 of its Open Access Transmission Tariff to provide a one-day minimum term for the purchase of these ancillary services. FPL states that it made the revisions in compliance with the Commission's letter order issued September 13, 2001, in the above-captioned docket (96 FERC ¶ 61,289).

Comment date: November 5, 2001, in accordance with Standard Paragraph E at the end of this notice.

4. Pacific Gas and Electric Company

[Docket No. ER01-833-000]

Take notice that on October 15, 2001, Pacific Gas and Electric Company (PG&E) tendered for filing with the Federal Energy Regulatory Commission (Commission) a Further Request for Deferral of Consideration of the unexecuted Wholesale Distribution Tariff (WDT) Service Agreement and Interconnection Agreement between Pacific Gas and Electric Company and Modesto Irrigation District (MID) filed in FERC Docket No. ER01-833-000 on December 29, 2000. PG&E and Modesto are finalizing the WDT Service Agreement and a letter agreement for review and signature, and PG&E therefore is notifying the Commission that executed agreements will not be filed by October 14, 2001, the requested deferral date. PG&E requests that the Commission defer consideration of the proceedings filed in ER01-833-000 to October 29, 2001 or 15 days beyond the last request for Deferral in order that the parties may finalize and execute the Agreements.

Copies of this filing have been served upon MID, the California Independent System Operator Corporation, and the California Public Utilities Commission.

Comment date: November 5, 2001, in accordance with Standard Paragraph E at the end of this notice.

5. Duke Power Company, a Division of Duke Energy Corporation

[Docket No. ER00-3454-000]

Take notice that on October 15, 2001, Duke Power Company (Duke), a division of Duke Energy Corporation, tendered for filing with the Federal Energy Regulatory Commission (Commission) its quarterly transaction summaries of power marketing activity for transactions conducted pursuant to its market-based rate tariffs, FERC Electric Tariff Original Volume No. 3 and FERC Electric Tariff Original Volume No. 5, for the quarter ending September 30, 2001.

Comment date: November 5, 2001, in accordance with Standard Paragraph E at the end of this notice.

6. Midwest Independent Transmission System Operator, Inc.

[Docket No. ER01-3142-002]

Take notice that on October 15, 2001, the Midwest Independent Transmission System Operator, Inc. (the Midwest ISO) tendered for filing with the Federal Energy Regulatory Commission (FERC or Commission) revisions to its Open Access Transmission Tariff (OATT), FERC Electric Tariff, Original Volume No. 1, which was previously accepted for filing in Docket No. ER98-1438-000, and which has been reformatted to conform to the requirements of Order No. 614.

The Midwest ISO seeks an effective date of December 15, 2001. The Midwest ISO also seeks waiver of the Commission's regulations, 18 CFR 385.2010 (2000) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading FERC Filings for other interested parties in this matter. The Midwest ISO will provide hard copies to any interested parties upon request.

Comment date: November 5, 2001, in accordance with Standard Paragraph E at the end of this notice.

7. Southern California Edison Company

[Docket No. ER02-97-000]

Take notice that on October 15, 2001, Southern California Edison Company (SEC) tendered for filing with the Federal Energy Regulatory Commission (Commission), that effective the fourteenth day of December 2001, Rate Schedule FERC No. 163 and all supplements thereto, filed with the Federal Energy Regulatory Commission by Southern California Edison Company, are to be canceled.

Notice of the proposed cancellation has been served upon the Public Utilities Commission of the State of California and the Department of Water and Power of the City of Los Angeles.

Comment date: November 5, 2001, in accordance with Standard Paragraph E at the end of this notice.

8. Pinnacle West Capital Corporation

[Docket No. ER02-98-000]

Take notice that on October 15, 2001, Pinnacle West Capital Corporation tendered for filing with the Federal Energy Regulatory Commission (Commission) a Service Agreement under the Western Systems Power Pool Agreement for service to Utah Associated Municipal Power Systems.

A copy of this filing has been served on Utah Associated Municipal Power Systems.

Comment date: November 5, 2001, in accordance with Standard Paragraph E at the end of this notice.

9. Pacific Gas and Electric Company

[Docket No. ER02-99-000]

Take notice that on October 15, 2001, Pacific Gas and Electric Company (PG&E) tendered for filing with the Federal Energy Regulatory Commission (Commission) a Generator Special Facilities Agreement (GSFA) and two Supplemental Letter Agreements between PG&E and Three Mountain Power, LLC (TMP) (collectively Parties).

The GSFA permits PG&E to recover the ongoing costs associated with owning, operating and maintaining the Special Facilities. As detailed in the Special Facilities Agreement, PG&E proposes to charge TMP a monthly Cost of Ownership Charge equal to the rates for transmission-level, customer-financed facilities in PG&E's currently effective Electric Rule 2, as filed with the California Public Utilities Commission (CPUC). PG&E's currently effective rate of 0.31% for transmission-level, customer-financed Special Facilities is contained in the CPUC's Advice Letter 1960-G/1587-E, effective August 5, 1996, a copy of which is included as Attachment 2 of this filing.

PG&E has requested certain waivers. Copies of this filing have been served upon TMP, the California Independent System Operator Corporation and the CPUC.

Comment date: November 5, 2001, in accordance with Standard Paragraph E at the end of this notice.

10. Public Service Company of New Mexico

[Docket No. ER02-100-000]

Take notice that on October 15, 2001, Public Service Company of New Mexico (PNM) submitted for filing with the Federal Energy Regulatory Commission (Commission) an Agreement for Wheeling Services between the Navajo Tribal Utility Authority (NTUA) and PNM (Agreement). The Agreement incorporates an agreed to formula for assessment of State Gross Receipts Taxes and consolidates three interdependent Amendments that comprise the existing wheeling service arrangement between PNM and NTUA into one document that conforms with FERC Order 614 regarding rate schedule designation, formatting and pagination. PNM requests an effective date of January 1, 2002 for the Agreement. PNM's filing is available for public inspection at its offices in Albuquerque, New Mexico.

Copies of the filing have been sent to NTUA and to the New Mexico Public Regulation Commission.

Comment date: November 5, 2001, in accordance with Standard Paragraph E at the end of this notice.

11. PJM Interconnection, L.L.C.

[Docket No. ER02-101-000]

Take notice that on October 15, 2001, PJM Interconnection, L.L.C. (PJM), submitted for filing with the Federal Energy Regulatory Commission (Commission) amendments to the Amended and Restated Operating Agreement of PJM Interconnection, L.L.C. to provide State Consumer Advocates with voting rights in the PJM Members Committee while remaining only ex officio members of PJM.

Copies of this filing were served upon all PJM members, each state electric utility regulatory commission and each Office of State Consumer Advocate in the PJM control area.

Comment date: November 5, 2001, in accordance with Standard Paragraph E at the end of this notice.

12. Mid-Continent Area Power Pool

[Docket No. ER02-102-000]

Take notice that on October 15, 2001, the Mid-Continent Area Power Pool, on behalf of its public utility members, filed with the Federal Energy Regulatory Commission (Commission) amendments to Schedule F that will allow for MAPP members to transition to membership in regional transmission organizations.

A copy of this filing has been served on all MAPP members and the state commissions in the MAPP region.

Comment date: November 5, 2001, in accordance with Standard Paragraph E at the end of this notice.

13. Midwest Independent Transmission System Operator, Inc.

[Docket No. ER02-103-000]

Take notice that on October 15, 2001, the Midwest Independent Transmission System Operator, Inc. (Midwest ISO) tendered for filing with the Federal Energy Regulatory Commission (Commission) an amendment to Section 17.5 of the Midwest ISO's Open Access Transmission Tariff to charge a fee for non-confirmed transmission service requests for transmission service greater than one week.

The Midwest ISO requests that the amendment become effective December 15, 2001. Copies of this filing were electronically served upon Midwest ISO Members, Member representatives of Transmission Owners and Non-Transmission Owners, the Midwest ISO Advisory Committee participants, Policy Subcommittee participants, as well as all state commissions within the Midwest ISO region.

Comment date: November 5, 2001, in accordance with Standard Paragraph E at the end of this notice.

14. Lakefield Junction, L.P.

[Docket No. ER02-104-000]

Take notice that on October 15, 2001, Lakefield Junction, L.P. (Lakefield) tendered for filing with the Federal Energy Regulatory Commission (Commission) a Notice of Cancellation of its FERC Electric Tariff Original Volume No. 1.

Lakefield requests that the cancellation be accepted and made effective as of December 14, 2001.

Comment date: November 5, 2001, in accordance with Standard Paragraph E at the end of this notice.

15. South Carolina Electric & Gas Company

[Docket No. ER02-105-000]

Take notice that on October 16, 2001, South Carolina Electric & Gas Company (SCE&G) submitted to the Federal Energy Regulatory Commission (Commission) four service agreements: a transmission service agreement for firm point-to-point service and a transmission service agreement for non-firm point-to-point service between SCE&G and Calpine Energy Services, L.P. (Calpine) and a transmission service agreement for firm point-to-point service and a transmission service agreement for non-firm point-to-point service between SCE&G and Entergy-Koch Trading , Inc. (Entergy-Koch) under SCE&G's Open Access Transmission Tariff.

SCE&G requests an effective date of October 16, 2001 for all four agreements. Accordingly, SCE&G requests waiver of the Commission's notice requirements. Copies of this filing were served upon Calpine, Entergy-Koch and the South Carolina Public Service Commission.

Comment date: November 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26859 Filed 10-24-01; 8:45 am]

BILLING CODE 6717-01-P